ENVIRONMENTAL PROTECTION AGENCY

[ER-FRL-6672-5]

Environmental Impacts Statements; Notice of Availability

Responsible Agency: Office of Federal Activities, General Information (202) 564-7167 or http://www.epa.gov/compliance/nepa/.

Weekly receipt of Environmental Impact Statements

Filed February 6, 2006 Through February 10, 2006.

Pursuant to 40 CFR 1506.9.

EIS No. 20060044, Final EIS, SFW, IA, Driftless Area National Wildlife Refuge Comprehensive Conservation Plan, to Recover and Conserve the Northern Monkshood and Iowa Pleistocene Snail, IA, Wait Period Ends: March 20, 2006, Contact: Cathy Henry 563-873-3423. This document is available on the Internet at: http://www.fws.gov/midwest/planning/DriftlessArea.

EIS No. 20060045, Draft EIS, AFS, ID, Payette National Forest Travel Management Plan, Designate a System of Roads, Trails and Areas Open to Motorized and Non-Motorized Use, Implementation, Adam, Washington, Idaho, Valley Counties, ID, Comment Period Ends: April 3, 2006, Contact: Ana Egnew 208-634-0600. This document is available on the Internet at http://www.fs.fed.us/r4/payette/publications/trvl_mgmt/deis_trvl/trvl_deis.shtml.

EIS No. 20060046, Draft EIS, BIA, CA, Scotts Valley Band of Pomo Indians, Proposed 29.87 Acre Fee-to-Trust Transfer and Casino Project, Contra Costa County, CA, Comment Period Ends: April 3, 2006, Contact: John Rydzik 916-978-6042.

Amended Notices

EIS No. 20060027, Draft EIS, AFS, CA, Kings River Project, Proposal to Restore Historical Pre-1850 Forest Conditions, Implementation, High Sierra Ranger District, Sierra National Forest, Fresno County, CA, Comment Period Ends: March 28, 2006, Contact: Ross Peckinpah 559-855-5355. Revision to FR Notice Published January 27, 2006: Comment Period has been Extended from March 13, 2006 to March 28, 2006.

Dated: February 14, 2006.
Robert W. Hargrove.
Director, NEPA Compliance Division, Office of Federal Activities.

[FR Doc. E6-2321 Filed 2-16-06; 8:45 am]

BILLING CODE 6560-50-P